FEDERAL COMMUNICATIONS COMMISSION

47 CFR Part 73

[DA 02-297; MM Docket Nos. 02-23, 02-24, 02-25, 02-26; RM-10359-10362]

Radio Broadcasting Services; Keeseville, New York, Hartford and White River Junction, Vermont; Harrodsburg and Keene, Kentucky; Beverly Hills and Spring Hill, Florida; Bridgeton and Elmer, New Jersey

AGENCY: Federal Communications Commission.

ACTION: Proposed rule.

SUMMARY: In this document, the Commission seeks comment in four separate docketed proceedings in a multiple docket Notice of Proposed Rule Making. (1) At the request of Great Northern Radio, LLC and Family Broadcasting, Inc., the Commission proposes to reallot Channel 282C3 from Hartford, Vermont to Keeseville, New York and Channel 237A from White River Junction to Hartford, and modify the licenses of Stations WSSH(FM) and WWOD(FM) to reflect the changes. Coordinates for Channel 237A at Hartford are 43-43-45 NL and 72-22-22 WL. Coordinates for Channel 282C3 at Keeseville are 44-31-31 NL and 73-31-07 WL. Channel 237A can be allotted at Hartford at a site 8.1 kilometers (5.0 miles) north of the community. Channel 282C3 can be allotted at Keeseville at a site 3.8 kilometers (2.3 miles) northwest of the community. These proposals are within 320 kilometers of the Canadian border. Therefore, Canadian concurrence has been requested. (2) At the request of Mortenson Broadcasting Company of Central Kentucky, LLC, the Commission proposes to substitute Channel 256A for Channel 257C3 at Harrodsburg, and reallot Channel 256A from Harrodsburg, to Keene, Kentucky, as the community's first local transmission service, and modify the license of Station WJMM-FM to reflect the changes. Coordinates for Channel 256A at Keene are 37-56-36 NL and 84-38-31 WL. Channel 256A can be allotted at Keene, Kentucky without a site restriction. See Supplementary Information.

DATES: Comments are due on April 1, 2002, and reply comments are due on April 16, 2002.

FOR FURTHER INFORMATION CONTACT: Victoria M. McCauley, Mass Media Bureau, (202) 418-2180.

ADDRESSES: Federal Communications Commission, 445 12th Street, SW., Room TW-A325, Washington, DC 20554. In addition to filing comments with the FCC, parties interested in MM Docket 02-23 should serve petitioners, Great Northern Radio, LLC and Family Broadcasting, Inc., or its counsel or consultant, as follows: David G. O'Neill, Jonathan E. Allen, Manatt, Phelps & Phillips, 1501 M Street, NW., Suite 700,Washington, DC 20005-1702. Parties interested in MM Docket No. 02-24 should serve petitioner Mortenson Broadcasting Company of Central Kentucky, LLC, or its counsel or consultant, as follows: Jerrold Miller, Miller & Miller, P.C., P.O. Box 33003, Washington, DC 20033. Parties interested in MM Docket No. 02-25 should serve petitioner WGUL-FM, Inc., or its counsel or consultant, as follows: James A. Koerner, Koerner & Olender, P.C., 5809 Nicholson Lane, Suite 124, North Bethesda, MD 20852. Parties interested in MM Docket No. 02-26 should serve petitioner, Cohanzick Broadcasting Corp., or its counsel or consultant, as follows: Marnie Sarver, Wiley Rein & Fielding, LLP, 1776 K Street, NW., Washington, DC 20006.

SUPPLEMENTARY INFORMATION: This is a synopsis of the Commission's Report and Order, MM Docket Nos. 02-23, 02-24, 02-25, 02-26, adopted January 30, 2002, and released February 8, 2002. The full text of this document is available for public inspection and copying during regular business hours at the FCC Reference Information Center, Portals II, 445 12th Street, SW, Room CY-A257, Washington, DC 20554. This document may also be purchased from the Commission's duplicating contractor, Qualex International, Portals II, 445 12th Street, SW, Room CY-B402, Washington, DC 20554, telephone 202-863-2893, facsimile 202-863-2898, or via e-mail qualexint@aol.com.

(3) At the request of WGUL-FM, Inc., the Commission proposes to reallot Channel 292C3 from Beverly Hills, Florida, to Spring Hill, Florida, as its first local transmission service, and modify Station WGUL-FM's license to reflect the changes. Coordinates for Channel 292C3 at Spring Hill, Florida are 28-36-00 NL and 82-33-45 WL. Channel 292C3 can be allotted at Spring Hill at a site 12.0 kilometers (7.5 miles) northwest of the community. (4) At the request of Cohanzick Broadcasting Corp., we propose proposes to reallot Channel 299B from Bridgeton to Elmer, New Jersey, as that community's first local transmission service, and modify the license of Station WSNJ-FM to reflect the changes. Coordinates for Channel 299B at Elmer are 39-27-32 NL and 75-12-12 WL. Channel 299B can be allotted at Elmer, New Jersey at Cohanzick's current transmitter site 15.4 kilometers (9.6 miles) south of the community.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Vermont, is amended by removing Channel 282A3 and adding Channel 237A at Hartford, and removing White River Junction, Channel 237A.

3. Section 73.202(b), the Table of FM Allotments under New York, is amended by adding Keeseville, Channel 282C3.

4. Section 73.202(b), the Table of FM Allotments under Kentucky, is amended by removing Harrodsburg, Channel 257C3, and adding Keene, Channel 256A.

5. Section 73.202(b), the Table of FM Allotments under Florida, is amended by removing Beverly Hills, Channel 292C3, and adding Spring Hill, Channel 292C3.

6. Section 73.202(b), the Table of FM Allotments under New Jersey, is amended by removing Bridgeton, Channel 299B, and adding Elmer, Channel 299B.

Federal Communications Commission.
John A. Karousos,
Chief, Allocations Branch, Policy and Rules Division, Mass Media Bureau.

[FR Doc. 02-4220 Filed 2-21-02; 8:45 am]

BILLING CODE 6712-01-P